DEPARTMENT OF THE INTERIOR

National Park Service

60 Day Notice of Intention To Request Clearance of Collection of Information; Opportunity for Public Comment

AGENCY: Department of the Interior, National Park Service, Yellowstone National Park.

ACTION: Notice and request for comments.

SUMMARY: The Yellowstone National Park Wolf Economic Study will provide park managers and others with important, accurate information about the Yellowstone National Park visitor population in general as well as visitor and trip characteristics of those who specifically view wolves in the park. The importance of visitation specifically tied to wolves in the park will be examined. The mail-back questionnaire is designed to systematically collect data from visitors in several different topic areas: Individual characteristics, trip/visit characteristics, individual activities and individual opinions on park and wildlife management.

| Estimated numbers of: Responses | Estimated numbers of: Burden hours
Yellowstone National Park Wolf Economic Study | 5,000 | 1,917

Under provisions of the Paperwork Reduction Act of 1995 and 5 CFR part 1320, Reporting and Record Keeping Requirements, the National Park Service is soliciting comments on the need for gathering the information in the proposed surveys. The NPS also is asking for comments on the practical utility of the information being gathered; the accuracy of the burden hour estimate; ways to enhance the quality, utility, and clarity of the information to be collected; and ways to minimize the burden to respondents, including use of automated information collection techniques or other forms of information technology.

The NPS goal in conducting this survey is to develop statistically valid estimates of Yellowstone National Park visitation and to evaluate the economic effects of wolf restoration in the context of an accurate regional economic model that measures the role of Yellowstone National Park in the overall regional economy. The broader information on visitation, visitor demographics, and the regional economy will have application to other park planning efforts where reliable visitation and economic data is needed for evaluation of project proposals and other management issues.

DATES: Public comments will be accepted on or before 60 days from the date of publication in the Federal Register.

Send Comments to: Dr. John Duffield, University of Montana, Department of Economics, Missoula, MT 59812.

FOR FURTHER INFORMATION CONTACT: Dr. John Duffield. Voice: 406-721-2265, Email: <bioecon@montana.com>.

SUPPLEMENTARY INFORMATION: Titles: Yellowstone National Park Wolf Economic Study.

Bureau Form Number: None.

OMB Number: To be requested.

Expiration Date: To be requested.

Type of request: Request for new clearance.

Description of need: Wolf restoration in Yellowstone is an internationally important wildlife conservation success story. The visibility and public interest in wolves, wolf viewing, and wolf-based education programs has far exceeded initial expectations. A major public issue with wolf restoration was the cost to implement, in tax dollars, versus economic benefits. Proponents thought it a boon; opponents predicted negative regional economic impacts. Economic studies done prior to restoration predicted large positive economic benefits. The wolf recovery program has now matured; this proposal would quantify the economic and social effects due to wolf restoration as well as provide critical baseline information for other planning and analyses.

Wolf recovery generates positive economic impacts on the Greater Yellowstone Area (GYA) regional economy in several ways. The most significant impacts arise from visitors traveling from outside the region who choose to come to Yellowstone because wolves are present or who extend their stay because of wolves. Other impacts include wolf-program related expenditures. Economic impacts depend on visitor numbers and expenditures, which are best measured through visitor surveys. Understanding the contribution of wolf recovery requires development of a model of the actual aggregate role of Yellowstone National Park in the regional economy.

Automated data collection: At the present time, there is no automated way to gather this information because it includes directly contacting visitors to Yellowstone National Park.

Description of respondents: Visitors to Yellowstone National Park.

Estimated average number of respondents: 5,000.

Estimated average number of responses: Each respondent will respond only one time, so the number of responses will be the same as the number of respondents.

Estimated average burden hours per response: 23 minutes.

Frequency of Response: 1 time per respondent.

Estimated annual reporting burden: 1,917 hours.

Dated: November 4, 2003.
Leonard E. Stowe,
Acting National Park Service Information Collection Clearance Officer.

[FR Doc. 03-28843 Filed 11-18-03; 8:45 am]

BILLING CODE 4310-70-P